DEPARTMENT OF HEALTH AND HUMAN SERVICES

National Institutes of Health

Eunice Kennedy Shriver National Institute of Child Health and Human Development; Notice of Meeting

Pursuant to section 1009 of the Federal Advisory Committee Act, as amended, notice is hereby given of a meeting of the National Advisory Board on Medical Rehabilitation Research.

The meeting will be held as a hybrid (in person and virtual) meeting and is open to the public. Individuals who plan to attend as well as those who need special assistance, such as sign language interpretation or other reasonable accommodations, should notify the Contact Person listed as below in advance of the meeting. The meeting will be videocast and can be accessed from the NIH Videocasting website (http://videocast.nih.gov).

Name of Committee: National Advisory Board on Medical Rehabilitation Research.

Date: December 4-5, 2023.

Time: December 4, 2023, 9:00 a.m. to 5:00 p.m.

Agenda: NICHD Director's Report, NCMRR Director's report; Report from the Training and Career Development Working Group; Plan for Updating the NIH Research Plan for Rehabilitation; Scientific Presentation on Incorporating Lived Experience; Report from the Veteran's Administration Rehabilitation Service; NIH response to the ACD Working Group on PWD.

Place: Eunice Kennedy Shriver National Institute of Child Health and Human Development, National Institutes of Health, 6710B Rockledge Drive, MPR, Bethesda, MD 20892-7510.

Time: December 5, 2023, 9:00 a.m. to 12:30 p.m.

Agenda: Science Talk: Insights from a Career Studying TBI, Anger, Relationships, and Outcome Path; Science Talks: Injury Rehabilitation; Planning for Next Board Meeting in May 2024.

Place: Eunice Kennedy Shriver National Institute of Child Health and Human Development, National Institutes of Health, 6710B Rockledge Drive, MPR, Bethesda, MD 20892-7510.

Contact Person: Ralph M. Nitkin, Ph.D., Deputy, National Center for Medical Rehabilitation Research and Director, Biological Sciences and Career Development Program, Eunice Kennedy Shriver National Institute of Child Health and Human Development, National Institutes of Health, 6710B Rockledge Drive, Room 2116, Bethesda, MD 20892-7510, (301) 402-4206, nitkinr@mail.nih.gov.

In the interest of security, NIH has procedures at https://www.nih.gov/about-nih/visitor-information/campus-access-security for entrance into on-campus and off-campus facilities. All visitor vehicles, including taxicabs, hotel, and airport shuttles will be inspected before being allowed on campus. Visitors attending a meeting on campus or at an off-campus federal facility will be asked to show one form of identification (for example, a government-issued photo ID, driver's license, or passport) and to state the purpose of their visit.

Information is also available on the Institute's/Center's home page: https://www.nichd.nih.gov/about/advisory/nabmrr, where an agenda and any additional information for the meeting will be posted when available.

(Catalogue of Federal Domestic Assistance Program Nos. 93.864, Population Research; 93.865, Research for Mothers and Children; 93.929, Center for Medical Rehabilitation Research; 93.209, Contraception and Infertility Loan Repayment Program, National Institutes of Health, HHS)

Dated: September 27, 2023.
Tyeshia M. Roberson-Curtis,
Program Analyst, Office of Federal Advisory Committee Policy.

[FR Doc. 2023-21777 Filed 10-2-23; 8:45 am]

BILLING CODE 4140-01-P